ENVIRONMENTAL PROTECTION AGENCY

[EPA-HQ-OA-2018-0553; FRL-9990-64-OEI]

Information Collection Request Submitted to OMB for Review and Approval; Comment Request; CEQ-EPA Presidential Innovation Award for Environmental Educators Application (Renewal)

AGENCY: Environmental Protection Agency (EPA).

ACTION: Notice.

SUMMARY: The Environmental Protection Agency (EPA) has submitted an information collection request (ICR), CEQ-EPA Presidential Innovation Award for Environmental Educators Application (EPA ICR Number 2524.02, OMB Control Number 2090-0031), to the Office of Management and Budget (OMB) for review and approval in accordance with the Paperwork Reduction Act. This is a proposed extension of the ICR, which is currently approved through March 31, 2019. Public comments were previously requested via the Federal Register on December 21, 2018 during a 60-day comment period. This notice allows for an additional 30 days for public comments. A fuller description of the ICR is given below, including its estimated burden and cost to the public. An agency may not conduct, or sponsor and a person is not required to respond to a collection of information unless it displays a currently valid OMB control number.

DATES: Additional comments may be submitted on or before April 22, 2019.

ADDRESSES: Submit your comments, referencing Docket ID Number EPA- HQ-OA-2018-0553, to (1) EPA online using www.regulations.gov (our preferred method), by email to oei.docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Javier Araujo, Office of the Administrator, Office of Environmental Education, MC-1704-A, Environmental Protection Agency, Environmental Protection Agency, 1200 Pennsylvania Ave. NW, Washington, DC 20460; telephone number: 202-564-2642; fax number: 202-564-2753; email address: araujo.javier@epa.gov.

SUPPLEMENTARY INFORMATION: Supporting documents, which explain in detail the information that the EPA, will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The purpose of this information collection request is to collect information from applicants to select recipients for the Presidential Innovation Award for Environmental Educators program. The Environmental Protection Agency (EPA), in conjunction with the White House Council on Environmental Quality (CEQ), established the award program to meet the requirements of Section 8 (e) of the National Environmental Education Act (20 U.S.C. 5507(e)). Teachers can participate by completing and submitting the application form. Information collected includes background about the teacher and his/her experience, completed essay responses, sample teaching materials, and recommendations from a student, principal, and fellow teacher. The information collected under this ICR will continuously help EPA and CEQ to select the top awardees for the Presidential Innovation Award for Environmental Educators (PIAEE). The selected winners will benefit from small cash prizes, which will help them to continue their mission of advancing innovative approaches to environmental education to grades K-12.

Form Numbers: None.

Respondents/affected entities: K-12 teachers who teach on a full-time basis in a public school that is operated by a local education agency, including schools funded by the Bureau of Indian Affairs. For this program, a local education agency is one as defined by section 198 of the Elementary and Secondary Education Act of 1965 (now codified at 20 U.S.C. 7801(260).

Respondent's obligation to respond: Required to obtain information from the applicants for Presidential Innovation Award for Environmental Educators and assess certain aspects of the PIAEE program as established under Section 8 (e) of the National Environmental Education Act (20 U.S.C. 5507(e)).

Estimated number of respondents: 75 (total).

Frequency of response: Annually.

Total estimated burden: 10 hours (per year). Burden is defined at 5 CFR 1320.03(b).

Total estimated cost: $32,250 (per year), includes $14,191 annualized capital or operation & maintenance costs.

Changes in the Estimates: We expect that after adjusting the burden numbers that the burden numbers will substantially stay the same. Program requirements are expected to stay the same and the estimates currently consider the use of technology to complete the application.

Courtney Kerwin,
Director, Regulatory Support Division.

[FR Doc. 2019-05314 Filed 3-20-19; 8:45 am]

BILLING CODE 6560-50-P